DEPARTMENT OF HOMELAND SECURITY

Federal Emergency Management Agency

[Docket ID FEMA-2011-0011]

Agency Information Collection Activities: Proposed Collection; Comment Request, 1660-0061; Federal Assistance to Individuals and Households Programs

AGENCY: Federal Emergency Management Agency, DHS.

ACTION: Notice; 60-day notice and request for comments; extension, without change of a currently approved collection; OMB No. 1660-0061; FEMA Form 010-0-11 (previously FEMA Form 90-153), Administrative Option Agreement for the Other Needs provision of Individuals and Households Program, (IHP); FEMA Form 010-0-12, Request for Continued Assistance (Application for Continued Temporary Housing Assistance).

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning the need to continue collecting information from individuals and States in order to provide and/or administer disaster assistance through the Federal Assistance to Individuals and Households Programs.

DATES: Comments must be submitted on or before June 28, 2011.

ADDRESSES: To avoid duplicate submissions to the docket, please use only one of the following means to submit comments:

(1) Online. Submit comments at http://www.regulations.gov under Docket ID FEMA-2011-0011. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0011 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Mark Misczak, Acting Individual Assistance Director, Individual Assistance Division, FEMA, (202) 212-1000, for additional information. You may contact the Records Management Division for copies of the proposed collection of information at facsimile number (202) 646-3347 or e-mail address: FEMA-Information-Collections-Management@dhs.gov.

SUPPLEMENTARY INFORMATION: Section 206(a) of the Disaster Mitigation Act of 2000 (DMA 2000) (Public Law 106-390) consolidated the “Temporary Housing Collection of Information Assistance” and the “Individual and Family Grant Programs” into a single program called “Federal Assistance to Individuals and Households” (IHP) at section 408 of the Robert T. Stafford Disaster Relief and Emergency Assistance Act (Pub. L. 93-288, as amended). To implement this consolidation, which is intended to streamline the provision of assistance to disaster applicants, FEMA published regulations at 44 CFR 206.110 through 206.120. Pursuant to these regulations, applicants are able to request approval of late registrations, request continued assistance, and appeal program decisions. Similarly, States can partner with FEMA for delivery of disaster assistance under the “Other Needs” provision of the IHP through Administrative Option Agreements and Administration Plans addressing the level of managerial and resource support necessary.

Collection of Information

Title: Federal Assistance to Individuals and Households Programs.

Type of Information Collection: Extension, without change of a currently approved collection.

OMB Number: 1660-0061.

Form Titles and Numbers: FEMA Form 010-0-11 (previously FEMA Form 90-153), Administrative Option Agreement for the Other Needs provision of Individuals and Households Program, (IHP); FEMA Form 010-0-12, Request for Continued Assistance (Application for Continued Temporary Housing Assistance).

Abstract: The Federal Assistance to Individuals and Households Program (IHP) enhances applicants' ability to request approval of late applications, request continued assistance, and appeal program decisions. Similarly, it allows States to partner with FEMA for delivery of disaster assistance under the “Other Needs” provision of the IHP through Administrative Option Agreements and Administration Plans addressing the level of managerial and resource support necessary.

Affected Public: Individuals or households; State, Local or Tribal Government.

Estimated Total Annual Burden Hours: 500,803 hours.

Estimated Annualized Burden Hours and Costs
Type of respondent | Form name/Form No. | Number of respondents | Number of responses per respondent | Total Number of responses | Avg. burden per response (in hours) | Total annual burden (in hours) | Avg. hourly wage rate | Total annual respondent cost
Individuals or Households | Request for Approval of Late Registration/No Form | 6,389 | 1 | 6,389 | 0.75 (45 mins.) | 4,792 | $31.30 | $149,989.60
Individuals or Households | Request for Continued Assistance/FEMA Form 010-0-12 | 80,000 | 4 | 320,000 | 1 | 320,000 | 31.30 | 10,016,000.00
Individuals or Households | Appeal of Program Decision/No Form | 234,591 | 1 | 234,591 | 0.75 (45 mins.) | 175,943 | 31.30 | 5,507,015.90
State, Local or Tribal Government | Administrative Option Agreement (for the other needs provision of IHP)/FEMA Form 010-0-11 (previously FF 90-153) | 56 | 1 | 56 | 1 | 56 | 36.96 | 2,069.76
State, Local or Tribal Government | Development of State Administrative Plan for the other needs provision of IHP/No Form | 6 | 1 | 6 | 2 | 12 | 36.96 | 443.52
Total |  | 321,042 |  | 561,042 |  | 500,803 |  | $15,675,517.00

Estimated Cost: There are no capital, start-up, operation or maintenance costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 19, 2011.
Lesia M. Banks,
Director, Records Management Division, Mission Support Bureau, Federal Emergency Management Agency, Department of Homeland Security.

[FR Doc. 2011-10444 Filed 4-28-11; 8:45 am]

BILLING CODE 9111-23-P